FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants

A C H Freight Forwarding Inc., 41-10A Main Street, 2nd Floor, Flushing, NY 11354. Officers: Li Zhao, Vice President (Qualifying Individual), Jimin Zhou, President.

Non-Vessel—Operating Common Carrier Ocean Transportation Intermediary Applicants

Freightsolutions LLC dba Santa Cruz Ocean dba Freight Solutions, 1775 NW 70th Avenue, Suite 10, Miami, FL 33126. Officers: Fernando Santa Cruz, President (Qualifying Individual), Mayelin Santa Cruz, Vice President.

Ariel Cargo Export, Inc., 8252 NW 68 Street, Miami, FL 33166. Officers: Julio C. Ullauri, President (Qualifying Individual), Rosa E. Ullauri, Vice President.

Ocean Freight Forwarder—Ocean Transportation Intermediary Applicant.

Integrated Logistics 2000, LLC dba IL2000, 4007 Atlantic Avenue, Suite 101, Virginia Beach, VA 23451. Officer: Kraig Cesar, CEO (Qualifying Individual).

Dated: June 9, 2006.
Bryant L. VanBrakle,
Secretary.

[FR Doc. E6-9274 Filed 6-13-06; 8:45 am]

BILLING CODE 6730-01-P